ENVIRONMENTAL PROTECTION AGENCY

40 CFR Part 271

[EPA-RO7-RCRA-2008-0830; FRL-8778-1]

Nebraska: Final Authorization of State Hazardous Waste Management Program Revisions; Withdrawal of Immediate Final Rule

AGENCY: Environmental Protection Agency (EPA).

ACTION: Withdrawal of immediate final rule.

SUMMARY: Because EPA received adverse comment, we are withdrawing the immediate final rule for Nebraska: Final Authorization of State Hazardous Waste Management Program Revisions, published on December 30, 2008.

DATES: Effective February 27, 2009, EPA withdraws the immediate final rule published at 73 FR 79661 on December 30, 2008.

FOR FURTHER INFORMATION CONTACT: Lisa Haugen, Immediate Office, Air and Waste Management Division, EPA Region 7, 901 North 5th Street, Kansas City, Kansas 66101, telephone (913) 551-7877, haugen.lisa@epa.gov.

SUPPLEMENTARY INFORMATION: Because EPA received adverse comment, we are withdrawing the immediate final rule for Nebraska: Final Authorization of State Hazardous Waste Management Program Revisions published on December 30, 2008 (73 FR 79661). We stated in that immediate final rule that if we received adverse comment by January 29, 2009, the immediate final rule would not take effect and we would publish a timely withdrawal in the Federal Register. We will address the comment in a subsequent final action. As stated in the immediate final rule and the parallel proposed rule, we will not institute a second comment period in this action.

List of Subjects in 40 CFR Part 271

Environmental protection, Administrative practice and procedure, Confidential business information, Hazardous waste, Hazardous waste transportation, Incorporation by reference, Indian lands, Intergovernmental relations, Penalties, Reporting and recordkeeping requirements.

Authority: This action is issued under the authority of section 2002(a), 3006 and 7004(b) of the Solid Waste Disposal Act, as amended, 42 U.S.C. 6912(a), 6926 and 6974(b).

Dated: February 23, 2009.
William Rice,
Acting Regional Administrator, Region 7.

[FR Doc. E9-4231 Filed 2-26-09; 8:45 am]

BILLING CODE 6560-50-P